DEPARTMENT OF ENERGY

Federal Energy Regulatory Commission

[Docket No. TS13-2-000]

Minnesota Municipal Power Agency; Notice of Filing

Take notice that on April 18, 2013, Minnesota Municipal Power Agency filed its request for exemption from Part 358 of the Federal Energy Regulatory Commission's (Commission) Regulations requiring compliance with the Commission's Standards of Conduct requirements set forth in Order 889,¹ as revised by Order Nos. 2001,² 690,³ and 717,⁴ by public utilities owning transmission facilities.

¹ Open Access Same-Time Information System and Standards of Conduct, Order No. 889, 61 FR 21,737, FERC Stats. & Regs. ¶ 31,035 (1996), order on reh'g, Order No. 889-A, 62 FR 12,484, FERC Stats. & Regs. ¶ 31,049 (1997) (Order No. 889-A), reh'g denied, Order No. 889-B, 81 FERC ¶ 61,253 (1997), aff'd in relevant part sub nom. Transmission Access Policy Study Group v. FERC, 225F.3d 667 (D.C. Cir. 2000).

² Standards of Conduct for Transmission Providers, Order No. 2004, FERC Stats. & Regs. ¶ 31,155 (2003), order on reh'g, Order No. 2004-A, FERC Stats. & Regs. ¶ 31,161, order on reh'g, Order No. 2004-B, FERC Stats. & Regs. ¶ 31,166, order on reh'g, Order No. 2004-C, FERC Stats. & Regs. ¶ 31,172 (2004), order on reh'g, Order No. 2004-D, 110 FERC ¶ 61,320 (2005), vacated and remanded as it applies to natural gas pipelines sub nom. National Fuel Gas Supply Corp. v. FERC, 468 F.3d 831 (D.C. Cir. 2006).

³ Standards of Conduct for Transmission Providers, Order No. 690, FERC Stats. & Regs. ¶ 31,237, order on clarification, Order No. 690-A, FERC Stats. & Regs. ¶ 31,243 (2007).

⁴ Standards of Conduct for Transmission Providers, Order No. 717, 73 FR 63,796, FERC Stats. & Regs. ¶ 31,280 (2008), order on reh'g, Order No. 717-A, 129 FERC ¶ 61,043, order on reh'g, Order No. 717-B, 129 FERC ¶ 61,123 (2009), order on reh'g, Order No. 717-C, 131 FERC ¶ 61,045 (2010), order on reh'g, Order No. 717-D, 135 FERC ¶ 61,017 (2011).

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 5 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on May 20, 2013.

Dated: April 25, 2013.
Kimberly D. Bose,
Secretary.

[FR Doc. 2013-10257 Filed 4-30-13; 8:45 am]

BILLING CODE 6717-01-P